DEPARTMENT OF HEALTH AND HUMAN SERVICES

Administration for Children and Families

Submission for OMB Review; Comment Request

Title: Supporting Healthy Marriage (SHM) Project: Control Services Survey.

OMB No.: New collection.

Description: The Administration for Children and Families (ACF), U.S. Department of Health and Human Services, is conducting a demonstration and evaluation called the Supporting Healthy Marriage (SHM) Project. Supporting Healthy Marriage is designed to inform program operators and policymakers of the most effective ways to help low-income married couples strengthen and maintain healthy marriages. In particular, the project will measure the effectiveness of marriage education programs by randomly assigning eligible volunteer couples to SHM program groups and control groups.

In order to conduct a strong test of the SHM program, the researchers must understand whether marriage education services similar to SHM are readily accessible to control group members elsewhere in the communities where SHM is offered. To measure the difference between services received by the program group and control group, the evaluator will administer a brief survey to participants in each SHM demonstration pilot site. The purpose of this survey is to identify the kinds of services that participants have received over the last six months, either from the SHM program or from other agencies in the community. This survey will allow the research team to determine whether there is a sufficient differential between the services received by the participants in the program group and those in the control group to constitute a strong test of the SHM intervention.

Respondents: Low-income married couples with children.

Annual Burden Estimates
Instrument | Number of respondents | Number of responses per respondent | Average burden hours per response | Total burden hours
SHM Control Services Survey | 808 | 1 | .17 hrs | 137.4
Estimated Total Annual Burden Hours: |  |  |  | 137.4

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: July 5, 2007.
Brendan C. Kelly,
OPRE Reports Clearance Officer.

[FR Doc. 07-3337 Filed 7-9-07; 8:45 am]

BILLING CODE 4184-01-M